DEPARTMENT OF DEFENSE

Department of the Navy

Notice of Open Meeting of the Chief of Naval Operations (CNO) Executive Panel

AGENCY: Department of the Navy, DoD.

ACTION: Notice.

SUMMARY: The Chief of Naval Operations (CNO) Executive Panel will deliberate on the findings and proposed recommendations of the Subcommittee on Diversity. The matters to be discussed include: Female and minority male officer accessions, retention, development, command climate, evaluation and mentoring programs, and accountability.

DATES: The meeting will be held on Thursday, July 16, 2009, from 9:30 a.m. to 11:30 p.m.

ADDRESSES: The meeting will be held in the Boardroom, CNA, 4825 Mark Center Drive, Alexandria, VA 22311-1846. Some members of the Executive Panel may participate via teleconference.

FOR FURTHER INFORMATION CONTACT: CDR Catherine Masar, CNO Executive Panel, 4825 Mark Center Drive, Alexandria, VA 22311-1846, telephone: (703) 681-9633.

SUPPLEMENTARY INFORMATION: Individuals or interested groups may submit written statements for consideration by the CNO Executive Panel at any time or in response to the agenda of the scheduled meeting. All requests or statements must be submitted to the Designated Federal Officer at the address detailed below.

Statements submitted in response to the agenda mentioned in this meeting notice must be received by the CNO Executive Panel at least five days prior to the respective meeting to allow adequate time for consideration.

The Designated Federal Officer will review all timely submissions with the CNO Executive Panel Chairperson and will ensure they are provided to members of the CNO Executive Panel before the meeting that is the subject of this notice.

Individuals desiring to participate via teleconference must submit their contact information (to include e-mail address) to CDR Catherine Masar at the below address.

To contact the Designated Federal Officer, write to Executive Director, CNO Executive Panel (N00K), 4825 Mark Center Drive, 2nd Floor, Alexandria, VA 22311-1846.

Dated: June 23, 2009.
A. M. Vallandingham,
Lieutenant Commander, Judge Advocate General's Corps, U.S. Navy, Federal Register Liaison Officer.

[FR Doc. E9-15243 Filed 6-26-09; 8:45 am]

BILLING CODE 3810-FF-P